DEPARTMENT OF HEALTH AND HUMAN SERVICES

Notice of Availability: Test Tools and Test Procedures Approved for the Office of the National Coordinator for Health Information Technology (ONC) HIT Certification Program

AGENCY: Office of the National Coordinator for Health Information Technology, Office of the Secretary, Department of Health and Human Services.

Authority: 42 U.S.C. 300jj-11.

ACTION: Notice.

SUMMARY: This notice announces the availability of test tools and test procedures approved by the National Coordinator for Health Information Technology (the National Coordinator) for the testing of EHR technology under the ONC HIT Certification Program to the 2011 Edition EHR certification criteria. The approved test tools and test procedures are identified on the ONC Web site at: http://www.healthit.gov/policy-researchers-implementers/2011-edition-approved-test-methods.

FOR FURTHER INFORMATION CONTACT: Carol Bean, Director, Office of Certification, Office of the National Coordinator for Health Information Technology, 202-690-7151.

SUPPLEMENTARY INFORMATION: On January 7, 2011, the Department of Health and Human Services issued a final rule establishing a permanent certification program for the purposes of testing and certifying health information technology (“Establishment of the Permanent Certification Program for Health Information Technology,” 76 FR 1262) (Permanent Certification Program final rule).¹ The permanent certification program was renamed the “ONC HIT Certification Program” in a final rule published on September 4, 2012 (77 FR 54163). The preamble of the Permanent Certification Program final rule stated that when the National Coordinator had approved test tools and/or test procedures ONC would publish a notice of availability in the Federal Register and identify the approved test tools and test procedures on the ONC Web site. As discussed in the Permanent Certification Program final rule, we anticipated that many of the test tools and test procedures that were developed by the National Institute of Standards and Technology (NIST) and approved for use in the temporary certification program would be approved for use in performing the testing of EHR technology under the ONC HIT Certification Program, particularly when the adopted certification criteria to which the test tools and test procedures applied had not been revised.

¹ The Department issued a proposed rule entitled “Proposed Establishment of Certification Programs for Health Information Technology” (75 FR 11328, March 10, 2010) that proposed the establishment of a temporary certification program and a permanent certification program and stated the Department's intentions to issue separate final rules for each program.

The National Coordinator has approved for use under the ONC HIT Certification Program the test tools and test procedures developed by NIST for testing EHR technology to the 2011 Edition EHR certification criteria. These approved test tools and test procedures are identified on the ONC Web site at: http://www.healthit.gov/policy-researchers-implementers/2011-edition-approved-test-methods.

Dated: October 11, 2012.
Farzad Mostashari,
National Coordinator for Health Information Technology.

[FR Doc. 2012-25830 Filed 10-18-12; 8:45 am]

BILLING CODE 4150-45-P